DEPARTMENT OF VETERANS AFFAIRS

Report: Strategies for Serving Our Women Veterans

AGENCY: Department of Veterans Affairs.

ACTION: Final notice.

SUMMARY: On May 14, 2012, the Department of Veterans Affairs (VA) published a notice in the Federal Register inviting public comment on the Draft Strategy Report (DSR) titled, Strategies for Serving Our Women Veterans. This document responds to the public comments received and affirms as final, with two identified changes, to the DSR.

FOR FURTHER INFORMATION CONTACT: Irene Trowell-Harris, RN, Ed.D., Director, Center for Women Veterans, Department of Veterans Affairs, 810 Vermont Avenue NW, Washington, DC 20420.

SUPPLEMENTARY INFORMATION: In a notice published on May 14, 2012 [FR Vol. 77, No. 93], VA presented its DSR, Strategies for Serving Our Women Veterans. VA is committed to transformation, with the aim of becoming an increasingly Veteran-centric, results-driven, and forward-looking organization. In line with this commitment, Secretary Shinseki called for the formation of a Women Veterans Task Force (WVTF) in July 2011, to be charged with developing a comprehensive VA action plan for resolving gaps in how our organization serves women Veterans. As an interim deliverable, WVTF developed this DSR to solicit stakeholder feedback on its initial findings and recommendations. Following public comments to this draft, WVTF will develop a detailed operating plan for implementation.

We received 32 comments on the DSR through the Federal Register. The majority of comments involved one or more of the following topics: Veterans Benefits Administration (VBA) disability ratings policies; recommendations for collaboration between Department of Defense (DoD) and VA in outreach to women Veterans, including outreach prior to separation from service; need for DoD to enhance its efforts in military sexual trauma (MST) prevention; privacy in regard to MST treatment and other issues related to MST treatment, including recommended change in questions asked during National Security Clearance process; need for full-time women Veterans coordinators; need for expanded child-care; need for specific treatment for homeless women Veterans; importance of culture change across VA with regard to women Veterans; disparities in care for women Veterans; need for specific goals, metrics, and accountability to ensure successful implementation of the recommendations in the draft report; need for more research and data; concerns about how the Task Force was constituted; and opportunities for collaboration with non-governmental organizations (NGO) and other Federal and state agencies.

Other comments related to gaps and recommendations laid out in the strategy report, editorial corrections, and citations. One included a report of alleged criminal activity (identity theft) at a specific VA facility. Based on subject matter, most of the comments can be grouped into several categories: VA claims and benefits; collaboration for proactive outreach to women Veterans; MST; access to VA services (access to VA health care); homeless women Veterans; culture change; data; and WVTF integrity and accountability. We have organized our discussion of the comments accordingly.

Comments Concerning VA Claims and Benefits

There were a number of comments regarding VA's disability ratings policies and procedures and the length of time it takes to decide a case. One commenter expressed concern that her claim was not properly rated because she suffered from a difficult-to- diagnose disease. Others expressed that VA's disability rating system is still largely intact despite not having been updated in 50 years, and that major renovations are needed for today's medical evaluations. These comments are beyond the scope of this particular report. We, therefore, make no changes to the DSR based on those comments.

The majority of commenters believed that VA should more closely collaborate with DoD in providing transition services to women Veterans. One commenter believed that DoD and VA need to collaborate consistently and more comprehensively to achieve outreach and education goals as described in the DSR.

Multiple commenters believed that Servicemembers need to be provided with information regarding VA services and benefits for which they may be entitled or eligible at the time of their discharge or release from active duty or service. One commenter believed it essential that VA fully recognizes and reaches out to nonprofits that are conducting important work in helping women Veterans not only to secure employment but also to have fulfilling long‐term careers in civilian life, and the commenter recommended that VA conduct an external mapping of the services being provided by nonprofit and community organizations for women Veterans. Other comments concerned opportunities for collaboration with NGOs, local community organizations, and other Federal agencies to provide training, services, outreach, research, and opportunities for women Veterans. These comments are outside the scope of this strategy report; we, therefore, do not make any changes to the DSR based on those comments.

Military Sexual Trauma

One commenter expressed concern regarding question #21 of the National Security Clearance Questionnaire that asks about mental health treatment. The commenter suggested that treatment for sexual assault counseling be excluded from disclosure and that VA advocate changing the question across the Federal Government. No changes to the DSR are made based on this comment, which is beyond the scope of the report.

Many commenters recounted personal experiences regarding sexual assault and MST they experienced. They also commented on DoD and VA's processes for treatment and benefits for those who experienced MST, the lack of VBA Women Veteran Coordinators' contact information at Veteran outreach events, and a lack of interest—both in DoD and VA—in minimizing the re-traumatization of women Veterans reporting or filing claims for MST.

These comments are beyond the scope of this report. As such, we do not make any changes to the DSR.

Access to VA

One commenter commended VA's efforts pertaining to delivery of services and benefits to women Veterans through the Center for Women Veterans, Women Veterans Health Strategic Health Care Group, Office of Mental Health Services, and women Veterans coordinators. The commenter expressed that proposed efforts need to be monitored and tracked in a comprehensive way to ensure that, together, they are succeeding in meeting the goals and outcomes set by VA. The commenter further suggested that VA ensure that there is no duplication of effort and that all programs and offices work together. The final suggestion of the commenter is that VA may want to consider streamlining aspects of these efforts to make sure they are coordinated, surveyed, and reviewed regularly for their ongoing success. We thank the commenter for these thoughtful comments (and noted support of VA women Veterans programs) but conclude that we need not make any changes to the DSR based on them.

Other comments involved requiring full-time availability of certain staff that provides direct assistance to women Veterans such as the women Veterans coordinators at regional offices; suggesting that employees should be Veterans and be able to relate to other women Veterans; ensuring that female nurse practitioners or doctors should be on full-time staff at women's health clinics; and adding child-care options to women's clinics. Another commenter wished to clarify that women do not decline services offered by VA but simply do not know about the range of services offered, making the outreach goal (p. 15 of the DSR) vital. The commenter recommended that VA add an objective defining the best channels through which women Veterans can and will receive messages.

We thank all of the commenters for taking the time to respond and submitting their comments and suggestions. Because these comments go beyond the scope and purpose of the DSR, we respectfully make no changes to the report as a result of those comments. We will, however, forward these comments to the responsible program offices to help inform their current efforts.

Homeless Women Veterans

One commenter addressed the challenges homeless women Veterans may face in getting assistance, especially when they have children. The commenter stressed the importance of focusing on the mental health of these particular women Veterans since they have the added stress of being responsible for dependents thus further compounding their desperate situation. To address this, the commenter suggested the following: Require homeless Veterans coordinators to network with counterparts in private and other public sectors; require VA to identify or acquire more transitional housing for homeless women Veterans-for those who are suffering with mental health issues and substance abuse, as well as those who are not; provide transitional housing programs that provide funding for providers/stakeholders that allow children of various ages and gender to be housed with their mother. In addition, the commenter states that such transitional housing programs should offer child-care options to enable the Veteran to attend college or to secure a job that will lead her to self-sufficiency.

We thank the commenter for these comments. Access to care and services for homeless women Veterans is a focus of the findings of the report. However, these specific recommendations go beyond the scope of the report. We respectfully decline to make changes to the DSR. We will, however, forward these comments to appropriate program offices for their consideration.

Culture Change

One commenter stressed the importance of culture change in VA to improve women Veterans' total experience using VA. Suggestions for improvement included instituting a national campaign supported by every level of leadership and all VA employees and updating the written regulations to legitimize cultural changes that are adopted. We acknowledge the concerns of the commenter and note that the core concern is already reflected in the DSR; therefore, no changes are required based on this comment.

Another commenter shared her impressions of VA staff's attitudes about women Veterans at a particular medical center, which she suggested has led to disparities in care for women Veterans. Examples provided include doctors and medical staff providing different treatment for women due to a bias that women Veterans are more emotional than male Veterans, and staff appearing uncomfortable with providing emergent care for gender-specific problems. There was also mention of the lack of prosthetics designed for women, as well as suggestions to increase depression-screening for female Veterans and to identify innovative approaches and best practices to reduce the perceived disparities in care at the medical center. We thank the commenter for these comments. Finding they go beyond the scope and purpose of the report, however, we make no changes to the DSR.

Data

There were comments concerning a need for more research and data to fully understand the challenges that women Veterans face and to identify how to adequately address them. A commenter expressed concern that one key area of missing data is information from employers on how they meet the needs of women Veterans, and what employers need to know in order to hire and successfully integrate women Veterans into their businesses. The commenter also suggested that VA consider the research already done by private and nonprofit organizations.

We thank these commenters for taking the time to comment. Although we decline to make any changes to the DSR based on those comments, we found these comments informing and will consider them as we develop our Operating Plan.

WVTF Integrity and Accountability

Several comments concerned the composition of WVTF and the methods that will be used to measure the effectiveness of WVTF at carrying out its charge. Some questioned how the members of WVTF were selected and if men were included. Specifically, the commenter stated that WVTF needs to establish outcomes that indicate success in meeting established objectives and to develop metrics that adequately assess progress toward the desired outcomes. Others believed the Task Force should have included community women Veterans service providers to obtain a broader view of these issues from experts (and resources) at the grass roots level. We thank the commenters for their comments. Comments were solicited on the report findings and recommendations. Concerns related to the composition of the Task Force are beyond the scope of the report. We respectfully decline to make any changes based on these comments.

General Comments

A majority of the comments recounted very specific and personal experiences and impressions of women Veterans or their family members; asked questions about the data presented; asked specific questions about medical treatment; requested a comparison with other Veterans populations; and made requests for timelines on deliverables identified in the strategic plan. Other comments expressed concerns about specific women Veteran subpopulations, such as the women who served in Fort McClellan and those who experienced certain ailments. One commenter conducted an informal survey on a VA medical center's accessibility and services and provided results of her personal assessment. Various commenters provided their personal impressions of VA facilities where they receive treatment and services. We thank these commenters for their comments. Finding they go beyond the scope and purpose of the DSR, we respectfully decline to make any changes based on the comments.

One comment involved the role the Center for Women Veterans has in VA's administration of services to women Veterans. The commenter asserted that VA needs to re-evaluate the Center for Women Veterans' authority—which the commenter believed has diminished over time—to speak for women Veterans across the programs of VA. The commenter expressed that the organizational chart should indicate that the Director of the Center for Women Veterans reports directly to the Secretary. It was suggested that such placement would reflect the Department's commitment to, and understanding of, the level of importance and contributions of women Veterans.

Although we will not amend the DSR based on these comments (which suggest changes beyond the scope and purpose of the report), we found these comments informing and will consider them as we develop our Operating Plan.

Employment and Training

One commenter found the objectives throughout the DSR to be well-balanced insomuch as they are both strategic and measurable. There was a suggestion that VA work with organizations with expertise in providing employment mentoring and training for women Servicemembers to obtain those organizations' expertise to better assist women Veterans with the same sort of services. We thank the commenter for taking the time to comment and for the commenter's support of this DSR. We make no changes to the report based on these comments.

Another commenter concurs with the Task Force's goal to increase employment and retention of women Veterans by leveraging public and private sector resources and improving synergy, integration, and collaboration. The commenter recommended that VA pursue collaborative efforts with states, encourage the sharing of best practices, and challenge regional chambers of commerce to host Veterans hiring conferences in the coming year. The commenter also concurs with the Task Force's goal to enhance marketability and professional development of women Veterans through career development/workforce training, noting their receipt of specialized job training and/or career or professional credentials is critical to their future employment success. The commenter encouraged institutions providing this training—community colleges and universities—to provide a supportive environment for Veterans. The commenter also noted that support services are critically needed to serve younger women Veterans, especially those who experience multiple deployments. The commenter recommended that VA expand the number of VetSuccess Programs on campus program sites to increase the number of supportive campus environments that can help ensure women Veterans achieve their educational goals.

We appreciate the supportive comments and thank the commenters. With respect to the suggested additional recommendations, we do not make any changes to the report because they go beyond the scope and purpose of the DSR.

Data Collection and Evaluation of Services

One commenter recommended that VA ensure that its indicators identify root-causes of identified problems and track women Veterans across “the life-cycle of service.”

In conclusion, many comments that we received provide valuable insights that we will take into account in our future implementation efforts particularly with respect to conducting a detailed analysis of needs. Other comments recommend resources that the implementing VA program offices can evaluate for use in those efforts.

Comments that we forward to the appropriate lead Administration (i.e., the Veterans Health Administration (VHA), VBA, or the National Cemetery Administration) will in turn be forwarded, as appropriate, to that Administration's subordinate offices for consideration generally or in connection with current or planned program initiatives within VA to prevent duplication of efforts. For example, comments that we received relating to homelessness among Veterans in the Greater Los Angeles area will be forwarded first to VHA and, subsequently, to the leaders of the VA Greater Los Angeles Healthcare System.

Comments related to DoD and its programs or to outside entities are not within VA's purview to address.

The comments overwhelmingly affirm the intent and recommendations of the DSR and particularly the need for urgent, systemic, and sustained action to address the gaps in services and benefits identified in the report.

We, therefore, make no changes to the DSR based on the comments received, except for the following two editorial changes:

• On page 4, a citation will be added for the survey mentioned in the following statement: “By 2009, about 30 percent of women Veterans surveyed did not think they were eligible for VA benefits.” The citation to be added is as follows: National Survey of Women Veterans. Women Veterans Health Strategic Healthcare Group and VA HSR&D SDR-08-270. 2008-2009.

• On page 7, the following sentence will be deleted due to a lack of a definitive reference: “In a survey, VA found that nearly a third of Veterans were interested in childcare services and more than 10 percent had to cancel or reschedule VA appointments due to lack of childcare.”

Conclusion

For the foregoing reasons, we adopt the DSR with two changes.

Signing Authority

The Secretary of Veterans Affairs, or designee, approved this document and authorized the undersigned to sign and submit the document to the Office of the Federal Register for publication electronically as an official document of the Department of Veterans Affairs. Jose D. Riojas, Interim Chief of Staff, Department of Veterans Affairs, approved this document on April 30, 2013 for publication.

Dated: April 30, 2013.
Robert C. McFetridge,
Director of Regulation Policy and Management, Office of General Counsel, Department of Veterans Affairs.

[FR Doc. 2013-10781 Filed 5-6-13; 8:45 am]

BILLING CODE 8230-01-P